DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 7, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Bison 2022 Study.

OMB Control Number: 0579-0420.

Summary of Collection: Collection and dissemination of animal health data and information is mandated by 7 U.S.C. 391, the Animal Industry Act of 1884, which established the precursor of the Animal and Plant Health Inspection Service (APHIS), Veterinary Services, the Bureau of Animal Industry. Legal requirements for examining and reporting on animal disease control methods were further mandated by 7 U.S.C. 8308 of the Animal Health Protection Act, “Detection, Control, and Eradication of Diseases and Pests,” May 13, 2002. This collection of bison data is consistent with the APHIS mission of protecting and improving American agriculture's productivity and competitiveness.

In connection with this mission, the NAHMS program includes periodic national commodity studies to investigate current issues and examine general productivity, health, and management practices used on farms and their economic impact. These non-regulatory, voluntary studies are driven by industry and stakeholder interest.

Need and Use of the Information: APHIS will collect information using several forms. APHIS will use the data collected form the forms to address the following goals. (1) Update knowledge of national and regional health management and production practices and develop estimates for producer, veterinary, and industry reference; (2) Provide factual information on fencing and confinement, processing and marketing, and movement for U.S bison operations; (3) Detect national and regional trends in disease emergence and movement such as the producer reporting of clinical signs of Mycoplasma bovis, malignant catarrhal fever, internal parasitism, and respiratory and enteric disease in bison; (4) Provide information useful to disease-spread models; and (5) Provide information on internal parasitism in bison, on antimicrobial resistance among isolates obtained from feces, and on pasture forage nutritional quality. Without the information, the ability to respond to domestic and international trade issues involving the health status and production practices of the U.S. bison population would be severely reduced, potentially impacting the global marketability of animals, meat, and byproducts. Disease spread models would not have the necessary parameters to more accurately predict spread of an outbreak.

Description of Respondents: Business or other for-profit.

Number of Respondents: 2,000.

Frequency of Responses: Reporting: On occasion.

Total Burden Hours: 3,741.

Dated: January 6, 2022.
Ruth Brown,
Departmental Information Collection Clearance Officer.

[FR Doc. 2022-02210 Filed 2-2-22; 8:45 am]

BILLING CODE 3410-34-P